DEPARTMENT OF COMMERCE

National Oceanic and Atmospheric Administration

[I.D. 070505B]

Endangered Species; File No. 1541

AGENCY: National Marine Fisheries Service (NMFS), National Oceanic and Atmospheric Administration (NOAA), Commerce.

ACTION: Receipt of application.

SUMMARY: Notice is hereby given that Kristen M. Hart, Ph.D., United States Geologic Survey, Florida Integrated Science Center, Center for Coastal & Watershed Studies, has applied in due form for a permit to take green sea turtles (Chelonia mydas) for purposes of scientific research.

DATES: Written, telefaxed, or e-mail comments must be received on or before August 11, 2005.

ADDRESSES: The application and related documents are available for review upon written request or by appointment in the following office(s):

Permits, Conservation and Education Division, Office of Protected Resources, NMFS, 1315 East-West Highway, Room 13705, Silver Spring, MD 20910; phone (301) 713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1541.

FOR FURTHER INFORMATION CONTACT: Patrick Opay or Jason Blackburn, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to capture up to 106 green sea turtles over the course of a three-year permit, utilizing dip nets or pound nets. The pound nets will be set up daily by the researchers, monitored at all times, and taken down when not in use. All 106 turtles will be captured, measured, Passive Integrated Transponder (PIT) and flipper tagged, blood sampled, skin biopsied, oral gastric lavaged, fecal sampled, and released. A subset of these turtles would have satellite or acoustic transmitters attached to their carapace. The purpose of the proposed research is to study juvenile and sub-adult green sea turtles found in the waters of the Big Sable Creek (BSC) complex in Everglades National Park in southwest Florida, to determine whether or not these animals are resident in BSC, or use it as a stopover point during migration; to determine whether the turtles use BSC as a foraging or nursery grounds; to determine the turtles' origin by use of genetic testing; to determine what the turtles forage on while in BSC; to determine their relative abundance over time; to detect changes in sea turtle size and age composition; and to track the turtles using a variety of tagging methods to monitor and document movement and migration patterns.

Dated: July 6, 2005.
Tammy C. Adams
Acting Chief, Permits, Conservation and Education Division, Office of Protected Resources, National Marine Fisheries Service.

[FR Doc. 05-13601 Filed 7-11-05; 8:45 am]

BILLING CODE 3510-22-S